DEPARTMENT OF HEALTH AND HUMAN SERVICES

Centers for Disease Control and Prevention

[30Day-18-18CV]

Agency Forms Undergoing Paperwork Reduction Act Review

In accordance with the Paperwork Reduction Act of 1995, the Centers for Disease Control and Prevention (CDC) has submitted the information collection request titled Rapid Response Suicide Investigation Data Collection to the Office of Management and Budget (OMB) for review and approval. CDC previously published a “Proposed Data Collection Submitted for Public Comment and Recommendations” notice on November 9, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Rapid Response Suicide Investigation Data Collection—New—National Center for Injury Prevention and Control (NCIPC), Centers for Disease Control and Prevention (CDC)

Background and Brief Description

CDC is frequently called upon to respond to urgent requests from one or more external partners (e.g., local, state, territory, and tribal health authorities; other federal agencies; local and state leaders; schools; or other partner organizations) to conduct investigations of suicide. Supporting rapid investigations to inform the implementation of effective suicide prevention strategies is one of the most important ways CDC can serve to protect and promote the health of the public. Prior to this request, CDC had collected data for a suicide investigation via the OMB-approved Emergency Epidemic Investigations (EEI) ICR (OMB No. 0920-1011; expiration 3/31/2020), which supported data collections for Epi-Aid investigations. However, this mechanism is no longer available for rapid suicide responses due to the narrowing in scope of that generic. CDC requests approval for a 3-year period for this Generic Information Collection Request to rapidly respond to urgent requests for CDC assistance to investigate an apparent and unexplained potential cluster or increase in suicidal behavior. Rapid Response Suicide Investigation Data Collections are specifically designed to inform the implementation of prevention strategies in a state, county, community, or vulnerable population where a possible suicide cluster or increasing trend has been observed. This generic clearance will not be used to conduct research studies or to collect data designed to draw conclusions about the United States or areas beyond the defined geographic location or vulnerable population that is the focus of the investigation.

These public health data are used by external partners (e.g., local, state, territory, and tribal health authorities; other federal agencies; local and state leaders; schools; or other partner organizations) to identify, prioritize, and implement strategies to prevent suicidal behavior and suicide. Rapid Response Suicide Investigation Data Collections methods will vary and depend on the unique circumstances of the urgent and rapid response and objectives determined by CDC. Investigations may use descriptive and/or cohort- or case-control designs. Data collection modes may include: (a) Archival record abstraction; (b) face-to-face interview; (c) telephone interview; (d) web-based questionnaire; (e) self-administered questionnaire; and (f) focus groups. Multiple data collection designs and modes are likely to be employed in a single investigation. The subpopulation will vary and depend on the unique circumstances of the Rapid Response Suicide Investigation Data Collections. Requests for assistance may include a state, county, community, or vulnerable population. Suicide rates are increasing across age-groups and vulnerable populations, include, but are not limited to, youth, middle-aged adults, active duty service personnel, veterans, and American Indian/Alaska Native communities. Investigations likely will often require collection of information from 10 or more respondents. The data analytic approach for the Rapid Response Suicide Investigation Data Collection will vary and depend on the objectives and methods of the investigation. Multiple analytical strategies are likely to be employed in a single investigation. This may include descriptive analyses, logistic regression, and temporal and spatial cluster analyses. The goal of the analyses is to inform suicide prevention strategies by understanding (a) significant increases in fatal or nonfatal suicidal behavior; (b) the risk factors associated with trends of fatal or nonfatal suicidal behavior; (c) the groups most affected (e.g., gender, age, location in community or state); and (d) current risk and protective factors and prevention opportunities. The total estimated annualized burden for this collection is 1,000 hours. The only cost to respondents will be time spent responding to the surveys.

Estimated Annualized Burden Hours
Type of respondents | Form name | Number of respondents | Number of responses per respondent | Average burden per response (in hours)
Rapid Response Suicide Investigation Data Collection Participants | Rapid Response Suicide Investigation Data Collection Instruments | 2,000 | 1 | 30/60

Jeffrey M. Zirger,
Acting Chief, Office of Scientific Integrity, Office of the Associate Director for Science, Office of the Director, Centers for Disease Control and Prevention.

[FR Doc. 2018-14172 Filed 6-29-18; 8:45 am]

BILLING CODE 4163-18-P